DEPARTMENT OF AGRICULTURE

Animal and Plant Health Inspection Service

[Docket No. APHIS-2006-0011]

RIN 0579-AC03

Notice of Request for Approval of an Information Collection; Category of Plants for Planting Not Authorized for Importation Pending Pest Risk Analysis

AGENCY: Animal and Plant Health Inspection Service, USDA.

ACTION: New information collection; comment request.

SUMMARY: In accordance with the Paperwork Reduction Act, this notice announces the Animal and Plant Health Inspection Service's intention to initiate an information collection associated with a new category of plants for planting, also referred to as nursery stock, whose importation is not authorized for importation pending pest risk analysis.

DATES: We will consider all comments that we receive on or before July 5, 2011.

ADDRESSES: You may submit comments by either of the following methods:

• Federal eRulemaking Portal: Go to http://www.regulations.gov/fdmspublic/component/main?main=DocketDetail&d=APHIS-2006-0011 to submit or view comments and to view supporting and related materials available electronically.

• Postal Mail/Commercial Delivery: Please send one copy of your comment to Docket No. APHIS-2006-0011, Regulatory Analysis and Development, PPD, APHIS, Station 3A-03.8, 4700 River Road Unit 118, Riverdale, MD 20737-1238. Please state that your comment refers to Docket No. APHIS-2006-0011.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on a new category of plants for planting not authorized for importation pending pest risk analysis, contact Dr. Arnold Tschanz, Senior Plant Pathologist, Plants for Planting Policy, Risk Management and Plants for Planting Policy, RPM, PPQ, APHIS, 4700 River Road Unit 133, Riverdale, MD 20737-1236; (301) 734-0627. For copies of more detailed information on the information collection, contact Mrs. Celeste Sickles, APHIS' Information Collection Coordinator, at (301) 851-2908.

SUPPLEMENTARY INFORMATION: Title: Category of Plants for Planting Not Authorized for Importation Pending Pest Risk Analysis.

OMB Number: 0579-xxxx.

Type of Request: Approval of a new information collection.

Abstract: Under the Plant Protection Act (PPA) (7 U.S.C. 7701 et seq.), the Secretary of Agriculture is authorized to take such actions as may be necessary to prevent the introduction and spread of plant pests and noxious weeds within the United States. The Secretary has delegated this authority to the Administrator of the Animal and Plant Health Inspection Service (APHIS).

The regulations in 7 CFR part 319 prohibit or restrict the importation of certain plants and plant products into the United States to prevent the introduction of plant pests that are not already established in the United States or plant pests that may be established but are under official control to eradicate or contain them within the United States. The regulations in “Subpart—Nursery Stock, Plants, Roots, Bulbs, Seeds, and Other Plant Products,” §§ 319.37 through 319.37-14 (referred to below as the regulations), restrict, among other things, the importation of living plants, plant parts, seeds, and plant cuttings for planting or propagation. These regulations are intended to ensure that imported nursery stock does not serve as a host for plant pests, such as insects or pathogens, that can cause damage to U.S. agricultural and environmental resources.

On July 23, 2009, we published in the Federal Register (74 FR 36403-36414, Docket No. APHIS-2006-0011) a proposal to amend the nursery stock regulations. We proposed, among other things, to change the nursery stock regulations to refer instead to “plants for planting,” a term that is consistent with the International Plant Protection Convention's Glossary of Phytosanitary Terms. In addition, the proposal would add a new category of plants for planting whose importation is not authorized pending the completion of a pest risk analysis (NAPPRA).

APHIS is in the final rulemaking stage to amend part 319 which, if adopted, will require that requests to remove a taxon from the NAPPRA category be made in accordance with § 319.5, which contains requirements for requests to change the regulations in part 319. The current regulations in § 319.5 will apply, if adopted in the final rule, to the new category of plants for planting. This requirement was not part of the 2009 proposed rule and was added based on commenters' requests to allow only national plant protection organizations (NPPOs) to request that taxa be removed from the NAPPRA list. The final rule will allow any person to request that a taxon be removed from the NAPPRA list, but the regulations in § 319.5 will require the NPPO to be involved in the request, to ensure that APHIS has all the information necessary to evaluate the taxon.

Section 319.5 contains information collection activities for the submission of requests to APHIS that are necessary for us to conduct a PRA, including information about the party making the request, information about the commodity proposed for importation into the United States, shipping information, and a description of pests associated with the commodity.

We are asking the Office of Management and Budget (OMB) to approve our use of this information collection for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 5.6 hours per response.

Respondents: NPPOs and importers of nursery stock into the United States.

Estimated annual number of respondents: 5.

Estimated annual number of responses per respondent: 1.

Estimated annual number of responses: 5.

Estimated total annual burden on respondents: 28 hours. (Due to averaging, the total annual burden hours may not equal the product of the annual number of responses multiplied by the reporting burden per response.)

All responses to this notice will be summarized and included in the request for OMB approval. All comments will also become a matter of public record.

Done in Washington, DC, this 27th day of April 2011.
Gregory L. Parham,
Administrator, Animal and Plant Health Inspection Service.

[FR Doc. 2011-10718 Filed 5-2-11; 8:45 am]

BILLING CODE 3410-34-P